DEPARTMENT OF TRANSPORTATION

Surface Transportation Board

[Docket No. FD 35834]

Dakota, Minnesota & Eastern Railroad Corporation—Trackage Rights Exemption—Soo Line Railroad Company

AGENCY: Surface Transportation Board.

ACTION: Correction to notice of exemption.

Soo Line Railroad Company (SOO), pursuant to a written trackage rights agreement, has agreed to grant local and overhead trackage rights to Dakota, Minnesota & Eastern Railroad Corporation (DM&E) between milepost 159.0+/− on DM&E's Marquette Subdivision at or in the vicinity of Bluff, Minn. (previously known as La Crescent, Minn.), over SOO's Tomah and Watertown Subdivisions to the connection with SOO's M&P Subdivision and over the M&P Subdivision to milepost 7.0 at or in the vicinity of Columbia, Wis., a distance of approximately 119.0 +/− miles.¹ On June 26, 2014, notice of the exemption was served and published in the Federal Register (79 FR 36,379). The exemption became effective on July 10, 2014.

¹ A parallel trackage rights agreement in which SOO would acquire trackage rights over DM&E's Marquette Subdivision is the subject of the verified notice of exemption that was filed concurrently in Soo Line Railroad Company—Trackage Rights Exemption—Dakota, Minnesota & Eastern Railroad Corporation, Docket No. FD 35833.

The published notice stated that SOO was granting DM&E overhead trackage rights. The notice should have stated that SOO was granting DM&E local and overhead trackage rights. This notice corrects that error.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the verified notice contains false or misleading information, the exemption is void ab initio. Petitions to revoke the exemption under 49 U.S.C. 10502(d) may be filed at any time.

An original and 10 copies of all pleadings, referring to Docket No. FD 35834, must be filed with the Surface Transportation Board, 395 E Street SW., Washington, DC 20423-0001. In addition, a copy of each pleading must be served on Terence M. Hynes, Sidley Austin LLP, 1501 K Street NW., Washington, DC 20005.

Board decisions and notices are available on our Web site at “WWW.STB.DOT.GOV.”

Decided: August 12, 2014.
By the Board, Rachel D. Campbell, Director, Office of Proceedings.
Derrick A. Gardner,
Clearance Clerk.

[FR Doc. 2014-19531 Filed 8-15-14; 8:45 am]

BILLING CODE 4915-01-P